DEPARTMENT OF DEFENSE

Office of the Secretary

[Docket ID: DoD-2025-OS-0345]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 27, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Synchronized Pre-deployment and Operational Tracker Enterprise Suite (SPOT-ES); OMB Control Number 0704-0460.

Type of Request: Revision.

Number of Respondents: 1,805.

Responses per Respondent: 47.

Annual Responses: 84,835.

Average Burden per Response: 30 minutes.

Annual Burden Hours: 42,418.

Needs and Uses: The National Defense Authorization Act for Fiscal Year 2008, Public Law 110-181, Section 861, requires a common database between the Department of State (DoS), DoD, and the United States Agency for International Development (USAID) to serve as the repository of information on contracts and contractor personnel performing in Iraq and Afghanistan. A 2010 Memorandum of Understanding between DoS, DoD and USAID designates the Synchronized Pre-deployment and Operational Tracker as that common database. Public Law 110-181, Section 862, requires a process for registering, processing, accounting for, and keeping appropriate records of personnel performing private security functions in an area of combat operations. Any individuals who choose not to have data collected will not be entitled to employment opportunities with businesses that require this data to be collected per DFARS Clause 252.225-7040.

Affected Public: Individuals or households.

Frequency: On occasion.

Respondent's Obligation: Voluntary.

DoD Clearance Officer: Mr. Reginald Lucas.

Dated: September 24, 2025.
Stephanie J. Bost,
Alternate OSD Federal Register Liaison Officer, Department of Defense.

[FR Doc. 2025-18723 Filed 9-25-25; 8:45 am]

BILLING CODE 6001-FR-P